SECURITIES AND EXCHANGE COMMISSION

Sunshine Act Meeting Notice

Federal Register Citation of Previous Announcement: [68 FR 17848, April 11, 2003].

Status: Closed Meeting.

Place: 450 Fifth Street, NW., Washington, DC.

Date and Time of Previously Announced Meeting: Friday, April 11, 2003 at 11 a.m.; Tuesday, April 15, 2003 at 10 a.m.

Change in the Meeting: Cancellation/Time Change/Additional Item.

The Closed Meeting scheduled for Friday, April 11, 2003 at 11 a.m. was cancelled.

The Closed Meeting scheduled for Tuesday, April 15, 2003 at 10 a.m. has been changed to Tuesday, April 15, 2003 at 11 a.m.

Commissioner Glassman, as duty officer, determined that no earlier notice thereof was possible.

The subject matter of the additional item added to the Closed Meeting of April 15, 2003 will be: Regulatory matter bearing enforcement implications.

At times, changes in Commission priorities require alterations in the scheduling of meeting items. For further information and to ascertain what, if any, matters have been added, deleted or postponed, please contact the Office of the Secretary at (202) 942-7070.

Dated: April 14, 2003.
Jonathan G. Katz,
Secretary.

[FR Doc. 03-9670 Filed 4-15-03; 4:12 pm]

BILLING CODE 8010-01-P